DEPARTMENT OF ENERGY

[Docket No. 14-96-LNG]

Alaska LNG Project LLC; Order Affirming and Amending DOE/FE Order No. 3643-A Following Partial Grant of Rehearing

AGENCY: Office of Fossil Energy and Carbon Management, Department of Energy.

ACTION: Amended record of decision.

SUMMARY: The Office of Fossil Energy and Carbon Management (FECM) of the Department of Energy (DOE) gives notice of an Amended Record of Decision (ROD) published under the National Environmental Policy Act of 1969 (NEPA) and implementing regulations. This Amended ROD is an Appendix to DOE/FECM Order No. 3643-C, an order that affirms and amends the previously-issued DOE/FE Order No. 3643-A, an order authorizing Alaska LNG Project LLC to export domestically-produced liquefied natural gas (LNG) to non-free trade agreement countries under section 3(a) of the Natural Gas Act (NGA).

FOR FURTHER INFORMATION CONTACT:

Brian Lavoie, U.S. Department of Energy (FE-34), Office of Regulation, Analysis, and Engagement, Office of Resource Sustainability, Office of Fossil Energy and Carbon Management, Forrestal Building, Room 3E-042, 1000 Independence Avenue SW, Washington, DC 20585, (202) 586-2459, brian.lavoie@hq.doe.gov

Cassandra Bernstein, U.S. Department of Energy (GC-76), Office of the Assistant General Counsel for Energy Delivery and Resilience, Forrestal Building, Room 6D-033, 1000 Independence Avenue SW, Washington, DC 20585, (202) 586-9793, cassandra.bernstein@hq.doe.gov.

SUPPLEMENTARY INFORMATION: On April 13, 2023, DOE issued Order No. 3643-C to Alaska LNG Project LLC (Alaska LNG) under NGA section 3(a), 15 U.S.C. 717b(a). This Order affirms and amends Order No. 3643-A, previously issued to Alaska LNG on August 20, 2020, under NGA section 3(a). Order No. 3643-A authorized Alaska LNG to export LNG produced from Alaskan sources by vessel to any country with which the United States has not entered into a free trade agreement (FTA) requiring national treatment for trade in natural gas, and with which trade is not prohibited by U.S. law or policy (non-FTA countries). On April 15, 2021, DOE issued Order No. 3643-B, which granted rehearing of Order No. 3643-A for the purpose of conducting two Alaska-specific environmental studies. DOE issued Order No. 3643-C following its evaluation of the additional studies.

Under Order No. 3643-C, Alaska LNG is authorized to export LNG in a volume equivalent to 929 billion cubic feet (Bcf) per year of natural gas (2.55 Bcf/day) to non-FTA countries from the proposed Alaska LNG Project (Project) to be located in the Nikiski area of the Kenai Peninsula, Alaska. The Order reaffirms and maintains all obligations, rights, responsibilities, and deadlines established in Order No. 3643-A. In addition, it requires Alaska LNG to certify monthly to DOE that, except under strictly limited circumstances, the natural gas produced for export in the form of LNG in the prior month did not result in the venting of byproduct carbon dioxide into the atmosphere.

DOE conducted the additional environmental studies in the rehearing process through preparation of a Supplemental Environmental Impact Statement (SEIS). DOE had participated as a cooperating agency with the Federal Energy Regulatory Commission in preparing an environmental impact statement (EIS) analyzing the potential environmental impacts of the proposed Project (including an LNG export terminal, along with the associated facilities and pipeline) that would be used to support the export authorization Alaska LNG sought from DOE. DOE adopted the EIS and prepared a ROD, which is attached as an appendix to Order No. 3643-A. The Amended ROD is based on the SEIS and is attached as an appendix to Order No. 3643-C. The Amended ROD can be found here: www.energy.gov/sites/default/files/2023-04/ord3643-C.pdf.

Signed in Washington, DC, on April 26, 2023.
Amy Sweeney,
Director, Office of Regulation, Analysis, and Engagement, Office of Resource Sustainability.

[FR Doc. 2023-09159 Filed 4-28-23; 8:45 am]

BILLING CODE 6450-01-P